DEPARTMENT OF ENERGY

Agency Information Collection Extension

AGENCY: U.S. Department of Energy.

ACTION: Notice of request for comments.

SUMMARY: The Department of Energy (DOE) has submitted an information collection request to the OMB for extension under the provisions of the Paperwork Reduction Act of 1995. The information collection requests a three-year extension of its ARRA Financing Program Annual Report, OMB Control Number 1910-5150.

DATES: Comments regarding this proposed information collection must be received on or before January 12, 2026. If you anticipate that you will be submitting comments but find it difficult to do so within the period of time allowed by this notice, please advise the DOE Desk Officer at OMB of your intention to make a submission as soon as possible. The Desk Officer may be telephoned at (202) 881-9493.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Adam Guzzo, Program Manager, Office of State and Community Energy Programs; 1000 Independence Ave. SW, Washington, DC 20585; (202) 258-6766; EECBG@hq.doe.gov.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5150;

(2) Information Collection Request Titled: ARRA Financing Program Annual Report;

(3) Type of Review: Extension;

(4) Purpose: DOE requires the collection of information for the revolving loan fund activities under grants awarded by the Energy Efficiency and Conservation Block Grant (EECBG) Program (funded by the American Recovery and Reinvestment Act of 2009). These annual reports are necessary to ensure continued compliance with the terms and conditions of the grant awards. The information collected is used by DOE program staff to track the recipients' activities, monitor their progress, and provide oversight for financing program expenditures and the repurposing of funds. The collected information also enables program staff to provide required or requested information on program activities to OMB, Congress, and the public. The respondents are 60 remaining active financing program entities;

(5) Annual Estimated Number of Respondents: 60;

(6) Annual Estimated Number of Total Responses: 60;

(7) Annual Estimated Number of Burden Hours: 180;

(8) Annual Estimated Reporting and Recordkeeping Cost Burden: $10,829.

Statutory Authority: DOE requires the collection of information for the Energy Efficiency and Conservation Block Grant (EECBG) Program, as set forth in the Energy Independence and Security Act of 2007 (EISA) (Pub. L. 110-140). This collection also meets OMB requirements for: (1) administration of American Recovery and Reinvestment Act of 2009 (ARRA or Recovery Act) (Pub. L. 111-5) Financing programs created as part of the EECBG formula and competitive grants; and (2) ARRA funds. The EECBG is authorized under the Energy Policy and Conservation Act (EPCA), as amended (42 U.S.C. 6321 et seq. and 17151 et seq.).

Signing Authority

This document of the Department of Energy was signed on December 9, 2025, by Eric Mahroum, Director, Office of State and Community Energy Programs, pursuant to delegated authority from the Acting Under Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 10, 2025.

Jennifer Hartzell,
Alternate Federal Register Liaison Officer, U.S. Department of Energy.

[FR Doc. 2025-22665 Filed 12-11-25; 8:45 am]

BILLING CODE 6450-01-P